DEPARTMENT OF HEALTH AND HUMAN SERVICES

Centers for Disease Control And Prevention

[60Day-01-07]

Proposed Data Collections Submitted for Public Comment and Recommendations

In compliance with the requirement of section 3506 (c)(2)(A) of the Paperwork reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Anne O'Connor, CDC Assistant Reports Clearance Officer, 1600 Clifton Road, MS-D24, Atlanta, GA 30333. Written comments should be received within 60 days of this notice.

Proposed Project

National Exposure Registry—Extension—(OMB No. 0923-0006) Agency for Toxic Substances and Disease Registry (ATSDR), Centers for Disease Control and Prevention (CDC). The Agency for Toxic Substances and Disease Registry (ATSDR) is mandated pursuant to the 1980 Comprehensive Environmental Response Compensation and Liability Act (CERCLA) and its 1986 Amendments, the Superfund Amendments and Re-authorization Act (SARA), to establish and maintain a national registry of persons who have been exposed to hazardous substances in the environment and a national registry of persons with illnesses or health problems resulting from such exposure. ATSDR created the National Exposure Registry (NER) as a result of this legislation in an effort to provide scientific information about potential adverse health effects people develop as a result of low-level, long-term exposure to hazardous substances.

The National Exposure Registry is a program that collects, maintains, and analyzes information obtained from participants (called registrants) whose exposure to selected toxic substances at specific geographic areas in the United States was documented. Relevant health data and demographic information are also included in the NER database. The NER databases furnish the information needed to generate appropriate and valid hypothesis for future activities such as epidemiologic studies. The NER also serves as a mechanism for longitudinal health investigations that follow registrants over time to ascertain adverse health effects and latency periods.

The NER is currently composed of four sub-registries of persons known to have been exposed to specific chemicals: 1,1,1,-Trichloroethane (TCA), Trichloroethylene (TCE), 2,3,7,8-tetrachlorodibenzo-p-dioxin (dioxin), and benzene. In 2001, the NER will establish a new asbestos subregistry.

Participants in each subregistry are interviewed initially with a baseline questionnaire. An identical follow-up telephone questionnaire is administered to participants every three years until the criteria for terminating a specific subregistry have been met. The annual number of participants varies greatly from year to year. Two factors influencing the number of respondents per year are the number of subregistry updates that are scheduled and whether a new subregistry will be established. The addition of the new asbestos subregistry is expected to add approximately 6,000 persons to the NER. This increase is reflected in the following estimated burden table.

The following table is annualized to reflect one new subregistry (asbestos) and five updates for the requested three-year extension of OMB No. 0923-0006. There is no cost to registrants.

Respondents | Number of respondents | Responses per respondent | Average burden per response (in hrs.) | Total annualized burden (in hrs.)
One New Subregistry | 2,000 | 1 | 0.50 | 1,000
Five updates | 4,927 | 1 | 0.42 | 2,069
Total |  |  |  | 3,069

Dated: December 1, 2000.
John Moore,
Acting Associate Director for Policy, Planning, and Evaluation, Centers for Disease Control and Prevention (CDC).

[FR Doc. 00-31312 Filed 12-07-00; 8:45 am]

BILLING CODE 4163-18-P